DEPARTMENT OF HOMELAND SECURITY

Coast Guard

[Docket No. USCG-2011-0351]

Consolidated Port Approaches Port Access Route Studies (CPAPARS)

AGENCY: Coast Guard, DHS.

ACTION: Notice of availability.

SUMMARY: The Coast Guard announces the availability of an update to the Consolidated Port Approaches Port Access Route Studies (CPAPARS). The Coast Guard is publishing this updated report to provide continued transparency on the consolidated recommendations and alternatives provided by the supplemental PARS, the Advance Notice of Proposed Rulemaking and ongoing dialogue with the maritime industry.

DATES: Comments must be submitted to the online docket via https://www.regulations.gov on or before June 8, 2023.

FOR FURTHER INFORMATION CONTACT: For information about this document call or email Maureen Kallgren, Coast Guard; telephone 202-372-1561, email maureen.r.kallgren2@uscg.mil.

SUPPLEMENTARY INFORMATION:

Background

Atlantic Coast Port Access Route Study

On April 5, 2017, the Coast Guard announced the completion of the Atlantic Coast Port Access Route Study in the Federal Register (82 FR 16510), which is available for viewing and download from the Coast Guard Navigation Center's website at https://www.navcen.uscg.gov/port-access-route-studies.

The ACPARS identified navigation safety corridors along the Atlantic Coast based on the predominant two-way vessel traffic and customary routes confirmed with AIS data for offshore deep draft and coastal seagoing tug/tow vessels. The study recommended using these corridor locations to establish shipping safety fairways or other appropriate vessel routing measures.

Based on the recommendations provided in the ACPARS, the Coast Guard published an Advance Notice of Proposed Rulemaking (ANPRM) in the Federal Register (85 FR 37034) on June 19, 2020. This ANPRM, which is available for viewing and download from the Federal Register docket USCG-2019-0279 at www.regulations.gov, sought comments regarding the possible establishment of fairways along the Atlantic Coast of the United States, as identified in the ACPARS final report.

Port Approaches and International Entry and Departure Transit Areas

Recognizing the ACPARS only analyzed coastal, longshore, and predominantly north/south vessel transit routes along the Atlantic Coast, the Coast Guard announced on March 15, 2019, new studies focused on port approaches and international entry and departure areas along the Atlantic Coast to supplement the ACPARS. On September 9, 2022, the Coast Guard announced the availability of the Consolidated Port Approaches and International Entry and Departure Transit Areas Port Access Route Studies, (CPAPARS). The CPAPARS summarizes the findings of four regional port access route studies: the Northern New York Bight; Seacoast of New Jersey Including Offshore Approaches to the Delaware Bay, Delaware; Approaches to the Chesapeake Bay, Virginia; and the Seacoast of North Carolina; as well as ongoing dialogue with the maritime industry. Through continued engagement with stakeholders, the Coast Guard was notified of two erroneous graphics published in the report. Additionally, stakeholders sought clarification on some fairways adjustments and requested the opportunity to provide comments. This update corrects the graphical errors, amends certain recommended fairways, provides additional explanation of the recommendations, and provides a 90-day comment period. The updated CPAPARS has been completed and has been uploaded to the docket and at https://www.navcen.uscg.gov/port-access-route-study-reports for public review.

This notice is issued under authority of 46 U.S.C. 70003(c).

Dated: March 7, 2023.
Michael D. Emerson,
Director, Marine Transportation Systems.

[FR Doc. 2023-04997 Filed 3-9-23; 8:45 am]

BILLING CODE 9110-04-P